DEPARTMENT OF COMMERCE

National Oceanic and Atmospheric Administration

[I.D. 021403A]

Proposed Information Collection; Comment Request; Deep and Shallow-Water Grouper Dealer Reporting

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 22, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to John Poffenberger, Southeast Fisheries Science Center, 75 Virginia Beach Drive, Miami, FL 33149,(phone 305-361-4263).

SUPPLEMENTARY INFORMATION:

I. Abstract

Fishery quotas are established for species in the deep-water and shallow-water management units within the Gulf of Mexico Reef Fish Fishery Management Plan (see 50 CFR 622.42(a)(ii) and (iii)). Existing methods of monitoring these fishery quotas have proven to be ineffective, and for the past two years landings for the species in these management units have exceeded the quotas. The Southeast Fisheries Science Center intends to use the authority under section 50 CFR 622.5(c)(3)(ii) to require dealers to report purchases (landings) on a monthly basis and every two weeks for the last two months of the season (year).

II. Method of Collection

The Southeast Fisheries Science Center will provide a reporting form to each dealer selected to report. The dealer must provide the name and permit number of the company and provide the amount purchased (landed) for the previous month for the individual species in deep and shallow-water management units. NOAA's intent is to provide paper and electronic versions of the form. This form must be faxed or sent as an e-mail attachment to the Southeast Fisheries Science, Miami, FL, within 5 business days of the end of each reporting period (month or two-weeks). For dealers that do not have a rapidfax machine or access to e-mail, pre-addressed, pre-paid envelopes will be provided.

III. Data

OMB Number: 0648-0013.

Form Number: None.

Type of Review: Regular submission.

Affected Public: Business or other for-profit organizations (seafood dealers).

Estimated Number of Respondents: 85.

Estimated Time Per Response: 20 minutes.

Estimated Total Annual Burden Hours: 397 hours.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 12, 2003.
Gwellnar Banks,
Management Analyst, Office of the Chief Information Officer.

[FR Doc. 03-4137 Filed 2-20-03; 8:45 am]

BILLING CODE 3510-22-S